DEPARTMENT OF HEALTH AND HUMAN SERVICES

National Institutes of Health

National Library of Medicine; Notice of Meetings

Pursuant to section 1009 of the Federal Advisory Committee Act, as amended, notice is hereby given of a meeting.

The meeting will be open to the public as indicated below. Individuals who plan to attend and need special assistance, such as sign language interpretation or other reasonable accommodations should notify the Contact Person listed below in advance of the meeting. The open session will be videocast and can be accessed from the NIH Videocasting and Podcasting website (http://videocast.nih.gov/).

The meeting will be closed to the public as indicated below in accordance with the provisions set forth in section 552b(c)(6), Title 5 U.S.C., as amended for review, discussion, and evaluation of individual intramural programs and projects conducted by the National Library of Medicine, including consideration of personnel qualifications and performance, and the competence of individual investigators, the disclosure of which would constitute a clearly unwarranted invasion of personal privacy.

Name of Committee: National Library of Medicine Board of Scientific Counselors.

Date: October 15-16, 2025.

Open: October 15, 2025, 9:00 a.m. to 10:20 a.m.

Agenda: Program Discussion and Investigator Report.

Closed: October 15, 2025, 10:20 a.m. to 11:35 a.m.

Agenda: To review and evaluate personal qualifications, performance, and competence of individual investigators.

Open: October 15, 2025, 11:50 a.m. to 12:25 p.m.

Agenda: Program Discussion and Investigator Report.

Closed: October 15, 2025, 12:35 p.m. to 1:50 p.m.

Agenda: To review and evaluate personal qualifications, performance, and competence of individual investigators.

Open: October 15, 2025, 2:10 p.m. to 2:55 p.m.

Agenda: Program Discussion and Investigator Report.

Closed: October 15, 2025, 2:40 p.m. to 4:10 p.m.

Agenda: To review and evaluate personal qualifications, performance, and competence of individual investigators.

Open: October 16, 2025, 9:00 a.m. to 9:45 a.m.

Agenda: Program Discussion and Investigator Report.

Closed: October 16, 2025, 9:45 a.m. to 12:00 p.m.

Place: National Library of Medicine, 8600 Rockville Pike, Bethesda, MD 20892 (In-person Meeting).

Contact Person: Michelle Krever, Extramural Programs, National Library of Medicine, National Institutes of Health, 6705 Rockledge Drive, Suite 301, Bethesda, MD 20892, 301-496-6132, kreverm1@mail.nih.gov.

Any member of the public may submit written comments no later than 15 days in advance of the meeting. Any interested person may file written comments with the committee by forwarding the statement to the Contact Person listed on this notice. The statement should include the name, address, telephone number and when applicable, the business or professional affiliation of the interested person.

Open sessions will be videocast and can be accessed from the NIH Videocasting and Podcasting website (http://videocast.nih.gov/) on April 30, 2025. Please direct any questions to the Contact Person listed on this notice.

(Catalogue of Federal Domestic Assistance Program No. 93.879, Medical Library Assistance, National Institutes of Health, HHS)

Dated: August 21, 2025.
Bruce A. George,
Program Analyst, Office of Federal Advisory Committee Policy.

[FR Doc. 2025-16279 Filed 8-25-25; 8:45 am]

BILLING CODE 4140-01-P